Proclamation 9779 of August 31, 2018

National Preparedness Month, 2018

By the President of the United States of America

A Proclamation

National Preparedness Month is a time to focus our attention on the importance of preparing our families, homes, businesses, and communities for disasters that threaten our lives, property, and homeland. During this time, we also honor the brave men and women who selflessly respond to crises and disasters, rendering aid to those in need. These first responders, who work tirelessly to safeguard our Nation and protect our citizens, deserve our utmost gratitude and appreciation.

Over the past year, communities nationwide and across the Territories have witnessed and endured damage from multiple hurricanes, wildfires, tornadoes, floods, volcanic eruptions, and other natural disasters. The historic hurricane season of 2017 included three catastrophic storms that made landfall within a month, and was followed by a destructive series of wildfires in California. Combined, these natural disasters affected 47 million people and tens of thousands were mobilized to provide aid, comfort, and assistance. We are also especially mindful of those currently affected by ongoing wildfires in California, Oregon, and Colorado. In spite of tremendous challenges, the resilience of the American people continues to prevail.

Tragedies are somber reminders that preparedness is a shared responsibility and that it is critical to maintain readiness. All Americans can prepare for potential disasters by developing and practicing a family emergency response plan, assembling a disaster supply kit, signing up for alerts on mobile devices, setting aside emergency savings, and maintaining adequate insurance policies for their homes and businesses. The Federal Emergency Management Agency's Ready Campaign outlines other important steps to best prepare for a major disaster.

This month, I encourage all Americans to take the opportunity to ensure they have an emergency response plan in place and ready to be properly executed. Emergencies and disasters test the resilience and strength of families, communities, and our Nation. It is impossible to avoid every challenge and threat, but we can and must prepare for them. By doing so, we can help protect our communities and save lives.

NOW, THEREFORE, I, DONALD J. TRUMP, President of the United States of America, by virtue of the authority vested in me by the Constitution and the laws of the United States, do hereby proclaim September 2018 as National Preparedness Month. I encourage all Americans, including Federal, State, and local officials, to take action to be prepared for disaster or emergency by making and practicing their emergency response plans. Each step we take to become better prepared makes a real difference in how our families and communities will respond and persevere when faced with the unexpected.

IN WITNESS WHEREOF, I have hereunto set my hand this thirty-first day of August, in the year of our Lord two thousand eighteen, and of the Independence of the United States of America the two hundred and forty-third.

[FR Doc. 2018-19509

Filed 9-5-18; 11:15 am]

Billing code 3295-F8-P